DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2012 Economic Census of Puerto Rico, the U.S. Virgin Islands, Guam, Commonwealth of the Northern Mariana Islands, and American Samoa—Collectively Referred to as Island Areas.

OMB Control Number: 0607-0937.

Form Number(s): IA-97120, IA-97220, IA-97123, IA-97223, IA-97130, IA-97230, IA-97142, IA-97242, IA-97144, IA-97244, IA-97152, IA-97252, IA-97172, IA-97272, IA-97180, IA-97280, IA-97190, IA-97290, IA-98163, IA-98173, IA-98183, IA-98193.

Type of Request: Reinstatement, with change, of an expired collection.

Burden Hours: 56,825.

Number of Respondents: 59,100.

Average Hours per Response: 58 minutes.

Needs and Uses: The 2012 Economic Census of Island Areas, which includes Puerto Rico, Guam, the Commonwealth of the Northern Mariana Islands, the U.S. Virgin Islands, and American Samoa, is part of the 2012 Economic Census.

The 2012 Economic Census of Island Areas will cover the following sectors (as defined by the North American Industry Classification System (NAICS)): Mining, Utilities, Construction, Manufacturing; Wholesale and Retail Trades, Transportation and Warehousing, Information; Finance and Insurance; Real Estate and Rental and Leasing; Professional, Scientific, and Technical Services; Management of Companies and Enterprises; Administrative and Support, Waste Management and Remediation Services; Educational Services; Health Care and Social Assistance; Arts, Entertainment, and Recreation; Accommodation and Food Services; and Other Services (except Public Administration). This scope is equivalent to that of the stateside economic census.

The economic census provides the only source for dependable, comparable data for the island areas at a geographic level consistent with U.S. counties. The 2012 Economic Census of Island Areas is particularly important because of the rapid and varied changes taking place in the economies of these areas.

The economic census is the primary source of dependable facts about the structure and functioning of the economies of each Island Area, and it features the only recognized source of data at a geographic level equivalent to U.S. counties. Economic census statistics serve as part of the framework for the national accounts of the Island Areas and provide essential information for government (Federal and local), business, and the general public. The governments of the Island Areas and the Bureau of Economic Analysis (BEA) rely on the economic census as an important part of the framework for their income and product accounts, input-output tables, economic indexes, and other composite measures that serve as the factual basis for economic policy-making, planning, and program administration. Further, the census provides benchmarks for surveys of business which track short-term economic trends, serve as economic indicators, and contribute critical source data for current estimates of the gross product of the Island Areas. In addition, industry, business, academia, and the general public use information from the economic census for evaluating markets, preparing business plans, making business decisions, developing economic models and forecasts, conducting economic research, and establishing benchmarks for their own sample surveys.

If the economic census were not conducted in the Island Areas, the Federal government would lose the only dependable source of detailed comprehensive information of the economies of these areas. Additionally, the governments of the Island Areas would lose vital source data and benchmarks for their national accounts, input-output tables, and other composite measures of economic activity, causing a substantial degradation in the quality of these important statistics.

Affected Public: Business or other for-profit.

Frequency: Every 5 years.

Respondent's Obligation: Mandatory.

Legal Authority: Title 13, United States Code, Sections 131 and 224.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: September 23, 2011.
Glenna Mickelson,
Management Analyst, Office of the Chief Information Officer.

[FR Doc. 2011-24999 Filed 9-28-11; 8:45 am]

BILLING CODE 3510-07-P